DEPARTMENT OF LABOR

Employment and Training Administration

[TA-W-53,405]

Authentic Fitness Corp., Los Angeles, CA; Notice of Termination of Investigation

Pursuant to section 221 of the Trade Act of 1974, as amended, an investigation was initiated on November 1, 2003 in response to a worker petition filed on behalf of workers at Authentic Fitness Corporation, Commerce, California.

The petitioning group of workers is covered by an earlier petition filed on October 1, 2003 (TA-W-53,132) that is the subject of an ongoing investigation for which a determination has not yet been issued. Further investigation in this case would duplicate efforts and serve no purpose; therefore the investigation under this petition has been terminated.

Signed at Washington, DC this 13th day of November, 2003.
Linda G. Poole,
Certifying Officer, Division of Trade Adjustment Assistance.

[FR Doc. 03-31535 Filed 12-22-03; 8:45 am]

BILLING CODE 4510-30-P